DEPARTMENT OF TRANSPORTATION

National Highway Traffic Safety Administration

[Docket No. NHTSA-2015-0031; Notice 1]

BMW of North America, LLC, Receipt of Petition for Decision of Inconsequential Noncompliance

AGENCY: National Highway Traffic Safety Administration (NHTSA), Department of Transportation (DOT).

ACTION: Receipt of petition.

SUMMARY: BMW of North America, LLC (BMW), a subsidiary of BMW AG in Munich, Germany, has determined that certain model year (MY) 2014-2015 BMW R nineT motorcycles do not fully comply with paragraph S6.4.3(a) (Table V-b) of Federal Motor Vehicle Safety Standard (FMVSS) No. 108, Lamps, Reflective Devices and Associated Equipment. BMW has filed an appropriate report dated February 20, 2015, pursuant to 49 CFR part 573, Defect and Noncompliance Responsibility and Reports.

DATES: The closing date for comments on the petition is July 6, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. BMW's Petition: Pursuant to 49 U.S.C. 30118(d) and 30120(h) (see implementing rule at 49 CFR part 556), BMW submitted a petition for an exemption from the notification and remedy requirements of 49 U.S.C. Chapter 301 on the basis that this noncompliance is inconsequential to motor vehicle safety.

This notice of receipt of BMW's petition is published under 49 U.S.C. 30118 and 30120 and does not represent any agency decision or other exercise of judgment concerning the merits of the petition.

II. Motorcycles Involved: Affected are approximately 1,792 MY 2014-2015 BMW R nineT motorcycles manufactured between November 27, 2013 and January 26, 2015.

III. Noncompliance: BMW explains that the noncompliance is that the rear turn signal lamps were manufactured with a corner point of 5ºIB. The turn signal lamps should have had a corner point of 20ºIB as required by paragraph S6.4.3(a)(Table V-b) of FMVSS No. 108.

IV. Rule Text: Paragraph S6.4.3(a) of FMVSS No. 108 requires in pertinent part:

S6.4.3 Visibility Options. A manufacturer must certify compliance of each lamp function to one of the following visibility requirement options, and it may not thereafter choose a different option for that vehicle . . .

(a) Lens area options. When a vehicle is equipped with any lamp listed in Table V-b each such lamp must provide not less than 1250 sq mm of unobstructed effective projected luminous lens area in any direction throughout the pattern defined by the corner points specified in Table V-b for each such lamp;

V. Summary of BMW's Analyses: BMW stated its belief that the subject noncompliance is inconsequential to motor vehicle safety for the following reasons:

(A) BMW states that when the subject motorcycles are upright on a level surface and equipped with standard tires at their recommended cold tire inflation pressure; the lower edge of the rear turn signal lenses are approximately 747 mm above ground, the lower edge of the tail lamp lens is approximately 710 mm above ground and the tail lamp lens extend upward. BMW believes that due to these geometric conditions there is some overlap in the vertical direction between the rear turn signal lenses and the tail lamp lens however, they are not aligned along the same longitudinal centerline [of the turn signals]. Specifically, the tail lamp is on the motorcycle's longitudinal centerline while the rear turn signals are on stalks offset from the centerline. As a result, BMW believes that this has a very minor affect upon the effective projected luminous lens area.

(B) BMW stated its belief that the obstruction from the tail lamp only occurs if another road user in a following vehicle has an eye-point of approximately 747 mm above ground (extremely low for an average vehicle) and is a worst-case-scenario. For other road users with a higher eye-point, there is no apparent obstruction and the turn signal would appear to meet the requirements of FMVSS No. 108.

(C) BMW also stated its belief that the effect of the noncompliance, i.e., the overlap or interference of the turn signal lamp by the tail lamp does not occur during critical traffic conditions. A road user, who is following an affected motorcycle, and in the same lane as an affected motorcycle, will be able to fully view an affected motorcycle's rear turn signal at a distance of approximately 1,935 mm (approximately 6 ft). BMW believes that in most traffic conditions, a road user would not want to be closer to a motorcycle than 6 ft. Thus, this “non-visible” rear turn signal condition is not likely to occur during the vast majority of traffic conditions. BMW provided detailed analysis of specific travel conditions including following directly behind an affected motorcycle and overtaking/passing an affected motorcycle that it believes supports its conclusion that the condition caused by the subject noncompliance will not interfere with the safety of the motorcycle rider or another road user.

(D) BMW Customer Relations has not received any contacts from motorcycle riders, or other road users regarding this issue. Also, BMW is not aware of any accidents or injuries that have occurred as a result of this issue.

BMW has additionally informed NHTSA that it has corrected the noncompliance so that all future production of the subject vehicles will fully comply with FMVSS No. 108.

In summation, BMW believes that the described noncompliance of the subject motorcycles is inconsequential to motor vehicle safety, and that its petition, to exempt BMW from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motorcycles that BMW no longer controlled at the time it determined that the noncompliance existed. However, any decision on this petition does not relieve equipment distributors and dealers of the prohibitions on the sale, offer for sale, or introduction or delivery for introduction into interstate commerce of the noncompliant motorcycles under their control after BMW notified them that the subject noncompliance existed.

Authority: (49 U.S.C. 30118, 30120: Delegations of authority at 49 CFR 1.95 and 501.8)

Jeffrey Giuseppe,
Director, Office of Vehicle Safety Compliance.

[FR Doc. 2015-13600 Filed 6-3-15; 8:45 am]

BILLING CODE 4910-59-P